PENSION BENEFIT GUARANTY CORPORATION

Solicitation of Nominations for Appointment to the Advisory Committee of the Pension Benefit Guaranty Corporation

AGENCY: Pension Benefit Guaranty Corporation.

ACTION: Notice.

SUMMARY: The Pension Benefit Guaranty Corporation (PBGC) is soliciting nominations for appointment to the Advisory Committee of the PBGC.

DATES: Nominations must be received on or before September 24, 2018. Please allow three weeks for regular mail delivery to PBGC.

ADDRESSES: Nominations must be submitted to Judith Larsen, Office of the Director, Pension Benefit Guaranty Corporation, 1200 K Street NW, Washington, DC 20005-4026, or as email attachments to OfficeOfTheDirector@pbgc.gov. If sending electronically, please use an attachment in Word or pdf format.

SUPPLEMENTARY INFORMATION: The Pension Benefit Guaranty Corporation (PBGC or the Corporation) administers the pension plan termination insurance program under Title IV of the Employee Retirement Income Security Act of 1974 (ERISA). Section 4002(h) of ERISA provides for the establishment of an Advisory Committee to the Corporation. The Advisory Committee consists of seven members appointed by the President from among individuals recommended by the PBGC Board of Directors, which consists of the Secretaries of Labor, Treasury, and Commerce. The Advisory Committee members are as follows:

• Two representatives of employee organizations;

• Two representatives of employers who maintain pension plans; and

• Three representatives of the general public.

No more than four members of the Committee shall be members of the same political party. Anyone currently subject to federal registration requirements as a lobbyist is not eligible for appointment.

Advisory Committee members must have experience with employee organizations, employers who maintain defined benefit pension plans, the administration or advising of pension plans, or in related fields. Appointments are for three-year terms. Some of the appointments may serve unexpired terms that have less than three years remaining. Reappointments are possible but are subject to the appointment process.

The Advisory Committee's prescribed duties include advising the Corporation as to its policies and procedures relating to investment of moneys, and other issues as the Corporation may request or as the Advisory Committee determines appropriate. The Advisory Committee meets at least six times each year. At least one meeting is a joint meeting with the PBGC Board of Directors.

By February 19, 2019, the terms of all of the Advisory Committee members will have expired. Therefore, PBGC is seeking nominations for all of the seats.

PBGC is committed to equal opportunity in the workplace and seeks a broad-based and diverse Advisory Committee.

If you or your organization wants to nominate one or more people for appointment to the Advisory Committee to represent any of the interest groups specified above, you may submit nominations to PBGC. Nominations may be in the form of a letter, resolution or petition, signed by the person making the nomination or, in the case of a nomination by an organization, by an authorized representative of the organization. PBGC encourages you to include additional supporting letters of nomination. PBGC will not consider self-nominees who have no supporting letters. Please do not include any information that you do not want publicly disclosed.

Nominations, including supporting letters, should:

• State the person's qualifications to serve on the Advisory Committee (including any specialized knowledge or experience relevant to the nominee's proposed Advisory Committee position);

• State that the candidate will accept appointment to the Advisory Committee if offered;

• Include which of the positions (representing interest group) the candidate is being nominated to fill;

• Include the nominee's full name, work affiliation, mailing address, phone number, and email address;

• Include the nominator's full name, mailing address, phone number, and email address; and

• Include the nominator's signature, whether sent by email or otherwise.

PBGC will contact nominees for information on their political affiliation and their status as registered lobbyists. Nominees should be aware of the time commitment for attending meetings and actively participating in the work of the Advisory Committee. Historically, this has meant a commitment of at least 15 days per year. PBGC has a process for vetting nominees under consideration for appointment.

Issued in Washington, DC.
William Reeder,
Director, Pension Benefit Guaranty Corporation.

[FR Doc. 2018-16958 Filed 8-7-18; 8:45 am]

BILLING CODE 7709-02-P